FEDERAL COMMUNICATIONS COMMISSION

47 CFR Part 73

[DA 04-2049; MB Docket No. 04-248, RM-10990]

Radio Broadcasting Services; Big Pine Key, FL

AGENCY: Federal Communications Commission.

ACTION: Proposed rule.

SUMMARY: The Audio Division requests comment on a Petition for Rule Making filed by Call Communications Group proposing the reservation of vacant Channel 239A at Big Pine Key, Florida for noncommercial educational use. The reference coordinates for Channel *239A at Big Pine Key, Florida are 24-40-0 North Latitude and 81-21-0 West Longitude.

DATES: Comments must be filed on or before August 30, 2004, and reply comments on or before September 14, 2004.

ADDRESSES: Federal Communications Commission, 445 Twelfth Street, SW., Washington, DC 20554. In addition to filing comments with the FCC, interested parties should serve the petitioner, as follows: Call Communications Group, PO Box 561532, Miami, Florida 33256-1832.

FOR FURTHER INFORMATION CONTACT: Rolanda F. Smith, Media Bureau, (202) 418-2180.

SUPPLEMENTARY INFORMATION: This is a synopsis of the Commission's Notice of Proposed Rule Making, MB Docket No. 04-248, adopted July 7, 2004 and released July 9, 2004. The full text of this Commission decision is available for inspection and copying during regular business hours at the FCC's Reference Information Center, Portals II, 445 Twelfth Street, SW., Room CY-A257, Washington, DC 20554. The complete text of this decision may also be purchased from the Commission's duplicating contractor, Best Copy Printing, Inc., 445 12th Street, Room CY-B402, Washington, DC 20554, telephone 1-800-378-3160 or www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Flordia, is amended by adding Channel *239A and by removing Channel 239A at Big Pine Key.

Federal Communications Commission.
John A. Karousos,
Assistant Chief, Audio Division, Media Bureau.

>

[FR Doc. 04-16609 Filed 7-20-04; 8:45 am]

BILLING CODE 6712-01-P